DEPARTMENT OF ENERGY

Federal Energy Regulatory Commission

[Docket No. AD25-8-000]

Notice of Reliability Technical Conference

Take notice that the Federal Energy Regulatory Commission (Commission) will convene its annual Commissioner-led Reliability Technical Conference in the above-referenced proceeding on Tuesday, October 21, 2025, from approximately 9 a.m.-4:30 p.m. Eastern time. The conference will be held in-person at the Commission's headquarters at 888 First Street NE, Washington, DC 20426 in the Kevin J. McIntyre Commission Meeting Room. The meeting will be open to the public for listening and observing and will be on the record. There is no fee for attendance and registration is not required. The public may also attend via Webcast. This conference will also be transcribed. Transcripts will be available for a fee from Ace Reporting, 202-347-3700.

The purpose of this conference is to discuss policy issues related to the reliability and security of the Bulk-Power System.

Supplemental notices will be issued prior to the conference with further details regarding the agenda. Information on this technical conference will also be posted on the Calendar of Events on the Commission's website, www.ferc.gov, prior to the event. The Commission provides technical support for the free webcasts. Please call 202-502-8680 or email customer@ferc.gov if you have any questions.

Commission conferences are accessible under section 508 of the Rehabilitation Act of 1973. For accessibility accommodations, please send an email to accessibility@ferc.gov or call toll free 1-866-208-3372 (voice) or 202-208-8659 (TTY) or send a fax to 202-208-2106 with the required accommodations.

For more information about this conference, please contact Lodie White at Lodie.White@ferc.gov or (202) 502-8453.

Dated: May 14, 2025.
Debbie-Anne A. Reese,
Secretary.

[FR Doc. 2025-08956 Filed 5-19-25; 8:45 am]

BILLING CODE 6717-01-P